SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or e-mailed to the individuals at the addresses and fax numbers listed below:

(OMB) Office of Management and Budget, Attn: Desk Officer for SSA, Fax: 202-395-6974, E-mail address: OIRA_Submission@omb.eop.gov.

(SSA) Social Security Administration, DCFAM, Attn: Reports Clearance Officer, 1333 Annex Building, 6401 Security Blvd., Baltimore, MD 21235, Fax: 410-965-6400, E-mail address: OPLM.RCO@ssa.gov.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. State Agency Report of Obligations for SSA Disability Programs (SSA-4513); Time Report of Personnel Services for Disability Determination Services (SSA-4514); State Agency Schedule of Equipment Purchased for SSA Disability Programs (SSA-871)—20 CFR 404.1626-0960-0421. Forms SSA-4513, SSA-4514 and SSA-871 are used to collect data necessary for detailed analysis and evaluation of costs incurred by State Disability Determination Services in making determinations of disability for SSA. The data are also utilized in determining funding levels for each DDS. Respondents are State DDSs.

Type of Request: Extension of an OMB-approved information collection.

Number of Respondents: 54.

Estimated Annual Burden: 756 hours.

| Respondents | Frequency of response | Total annual responses | Average burden per response (minutes) | Estimated annual burden (hours)
SSA-4513 | 54 | 4 | 216 | 90 | 324
SSA-4514 | 54 | 4 | 216 | 90 | 324
SSA-871 | 54 | 4 | 216 | 30 | 108
Totals | 54 |  |  |  | 756

2. Subpoena-Disability Hearing—20 CFR 404.916(b)(1) & 416.1416(b)(1)—0960-0428. Form SSA-1272-U4 is completed by State and Federal disability hearing officers (DHOs) to subpoena evidence or testimony in connections with hearings required by the Social Security Act. Actual issuance of the subpoena will be done by that appropriate delegated SSA official. Respondents are DHOs.

Type of Request: Extension of an OMB-approved information collection.

Number of Respondents: 36.

Frequency of Response: 1.

Average Burden Per Response: 30 minutes.

Estimated Annual Burden: 18 hours.

3. Summary of Evidence—20 CFR 404.913(b), 404.914(a), 416.1707, 416.1313(b), 416.1414(a)—0960-0430. Form SSA-887 is completed by a DHO from the claimant's State Disability Determination Service (DDS). The DHO summarizes all medical and vocational reports that were used to make the no-disability determination. This form, which is used to prepare for and conduct the disability hearing, is also made available to claimants so that they are aware of the basis for the no-disability decision and they can prepare for the reconsideration accordingly. Respondents are DHOs.

Type of Request: Extension of an OMB-approved information collection.

Number of Respondents: 49,000.

Frequency of Response: 1.

Average Burden Per Response: 15 minutes.

Estimated Annual Burden: 12,250 hours.

4. Information About Joint Checking/Savings Accounts—20 CFR 416.1201(b), 416.1208—0960-0461. The SSA-2574 is used to collect information when a Supplemental Security Income (SSI) applicant/recipient objects to the assumption that he/she owns all or part of the funds in a joint checking or savings account which bears his or her name. Information about the account is collected from both the SSI applicant/recipient and other accountholder(s). These statements regarding ownership are required to determine whether the account is a resource of the SSI claimant. The amount of resources a person owns is one of the factors considered in determining eligibility for SSI. Respondents are applicants and recipients of SSI and individuals who are joint owners of financial accounts with SSI applicants/recipients.

Type of Request: Extension of an OMB-approved information collection.

Number of Respondents: 200,000.

Frequency of Response: 1.

Average Burden Per Response: 7 minutes.

Estimated Annual Burden: 23,333 hours.

5. Beneficiary Recontact Form—20 CFR 404.703, 404.705—0960-0502. SSA must ensure that eligibility for benefits continues after entitlement. Studies show that mothers/fathers who marry fail to report the marriage and/or the fact that they no longer have a child entitled in their care. SSA uses the SSA-1588-OCR-SM to ask mothers/fathers about their marital status and children in care to detect overpayments and avoid continuing payment to those no longer entitled. Respondents are recipients of survivor mother/father Social Security benefits.

Type of Request: Extension of an OMB-approved information collection.

Number of Respondents: 133,400.

Frequency of Response: 1.

Average Burden Per Response: 5 minutes.

Estimated Annual Burden: 11,117 hours.

6. Wage Reports and Pension Information—20 CFR 422.122(b)—0960-0547. The information collected through 20 CFR 422.122(b) is used by SSA to identify the requestor of pension plan information and to confirm the individual is entitled to the data SSA provides. Respondents are requestors of pension plan information.

Type of Request: Extension of an OMB-approved information collection.

Number of Respondents: 600.

Frequency of Response: 1.

Average Burden Per Response: 30 minutes.

Estimated Annual Burden: 300 hours.

7. SSI Monthly Wage Reporting System— 20 CFR 416.701-732—0960-0715.

Collection Background

SSI recipients are required to report changes in their income, resources and living arrangements that may affect eligibility or payment amount. Currently, SSI recipients report changes on Form SSA-8150, Reporting Events—SSI, or to an SSA teleservice representative through SSA's toll-free telephone number, or they visit their local Social Security office.

Wages have, historically, been the source of SSI's highest error rate largely due to non-reporting by beneficiaries, deemors, and representative payees. Failure to report changes in wages timely accounts for approximately $400 million in overpayments each year. Consequently, SSA is evaluating methods for increasing reporting. SSA has tested and determined that given an easily accessible automated format, individuals will increase compliance with reporting responsibilities. Increased timely reporting has resulted in a decrease in improper payments. One of the methods tested, described below, is the SSI Wage Reporting System.

Collection Description

Participants who need to report a change in monthly wages (Comment: There are other forms of earned income that the phone line does not support) will call SSA's toll-free telephone number to report the change. The participants will access SSA's system using knowledge-based authentication (providing name, SSN and date of birth). Participants will speak their report (voice recognition technology) and/or key in the information using the telephone key pad. This automated system will then directly update our records and issue receipts in compliance with Section 202 of the Social Security Protection Act of 2004.

We are requesting permanent authorization of the existing wage reporting system to continue providing an alternative, and more efficient, means by which beneficiaries, their representative payees, and deemors can report wages via a toll-free telephone number. We believe this permanent authorization is necessary to effectively implement national usage of the system and substantially increase the number of reports received via this collection method. Without permanent authorization, we are concerned that an interruption in reporting would prove detrimental to our earlier efforts to recruit and train reporters, would damage the current regularity of reporting, and would considerably mitigate SSA's potential to reduce improper payments resulting from erroneous, or deficient, wage reports. Respondents to this collection are SSI recipients, deemors and representative payees of recipients who agree to participate in the program.

Type of Request: Revision of OMB approval.

Number of Respondents: 50,000.

Frequency of Response: 12.

Average Burden Per Response: 4 minutes.

Estimated Annual Burden: 40,000 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Complaint Form for Allegations of Discrimination in Programs or Activities Conducted by the Social Security Administration—0960-0585. The information collected on form SSA-437 is used by SSA to investigate and formally resolve complaints of discrimination based on race, color, sex, age, religion, disability, sexual orientation, status as a parent, retaliation, and national origin, including limited or no ability with English in any program or activity conducted by SSA. A person who believes that he or she has been discriminated against on any of the above basis may file a written complaint of discrimination. The information will be used to identify the complainant; identify the alleged discriminatory act; ascertain the date of such alleged act; obtain the identity of any individual(s) with information about the alleged discrimination; and ascertain other relevant information that would assist in the investigation and resolution of the complaint. The respondents are individuals who believe they have been discriminated against by SSA or by SSA's employees, contractors or agents in programs or activities conducted by SSA.

Type of Request: Extension of an OMB-approved information collection.

Number of Respondents: 140.

Frequency of Response: 1.

Average Burden Per Response: 60 minutes.

Estimated Annual Burden: 140 hours.

2. Work Incentives Planning and Assistance Program (formerly the BPAO Program)—0960-0629. Like the Benefits Planning Assistance Outreach (BPAO) program which it replaces, the Work Incentives Planning and Assistance (WIPA) program collects identifying information from the project sites and the community work incentives coordinators. In addition, data are collected from the beneficiaries on background employment, training, benefits and work incentives. SSA is interested in identifying beneficiary outcomes under the WIPA program to determine the extent to which beneficiaries with disabilities achieve their employment, financial and health care goals. The data will also be valuable to SSA in its analysis and future planning for Social Security Disability Insurance and SSI programs.

Type of Request: Revision of an OMB-approved information collection.

Estimated Annual Burden: 5,019 hours.

Respondent | Number of annual responses | Frequency of response | Average burden per response (minutes) | Estimated annual burden (hours)
Site | 147 | 1 | 2 | 5
CWIC | 422 | 1 | 2 | 14
Beneficiary | 60,000 | 1 | 5 | 5,000
Totals | 60,569 |  |  | 5,019

3. Expanded Monitoring Site Review Questionnaire for Volume and Fee for Service Payees (SSA-637); Expanded Monitoring Site Review Beneficiary Interview Form (SSA-639)—20 CFR 404.2035, 404.2065, 416.665, 416.701, 416.708—0960-0633. In situations where a Social Security beneficiary or SSI recipient is incompetent or physically unable to take care of his or her own affairs, SSA may pay Social Security benefits and/or SSI payments to a relative, another person, or an organization when the best interest of the beneficiary will be served. In certain situations SSA conducts site reviews in order to ensure that payees are carrying out their responsibilities in accordance with representative payment policies and procedures. SSA is also able to identify poor payee performance, uncover misuse and initiate corrective action. Triennial site reviews are conducted for fee-for-service payees and all volume payees (i.e., organizations serving 100 or more beneficiaries and individuals serving 20 or more beneficiaries). The reviews include a face-to-face meeting with the payee (and appropriate staff), examination/verification of a sample of beneficiary records and supporting documentation, and usually include beneficiary (if competent adult) or custodian (if different from payee) interviews. Forms SSA-637 and SSA-639 are used to record the information collected during these interviews. The respondents are certain representative payees and also competent Social Security beneficiaries.

Type of Request: Revision of an OMB-approved information collection.

Estimated Annual Burden: 3,538 hours.

Form No. | Number of respondents | Reports annually | Time per response (minutes) | Total hours
SSA-637 | 1,763 | 1 | 75 | 2,204
SSA-639 | 8,001 | 1 | 10 | 1,334
Totals | 9,764 |  |  | 3,538

4. Direct Deposit Sign-Up Form (Country)—31 CFR 210—0960-0686. The SSA-1199 form captures the direct deposit information for an account at a foreign financial institution. Our International Direct Deposit program allows beneficiaries living abroad to have their benefits deposited to an account at a financial institution outside the U.S. Routing account number information varies slightly for each country, so we use a variation of the SF-1199 A (the government standard Direct Deposit Sign-Up Form) for each country. The respondents are Social Security beneficiaries residing abroad.

Type of Request: Extension of an OMB-approved information collection.

Number of Respondents: 5,000.

Frequency of Response: 1.

Average Burden Per Response: 5 minutes.

Estimated Annual Burden: 417 hours.

5. Certification of Prisoner Identity Information—20 CFR 422.107—0960-0688. When a valid agreement is in place, prison officials verify the identity of certain incarcerated U.S. citizens who need replacement Social Security cards. Information the prison officials provide will be taken from the official prison files and will be transcribed on their letterhead. This information will be used to establish the applicant's identity in the Social Security card process. The respondents are prison officials that certify identity of prisoners applying for replacement Social Security cards.

Type of Request: Extension of an OMB-approved information collection.

Number of Respondents: 1,000.

Frequency of Response: 200.

Average Burden Per Response: 3 minutes.

Estimated Annual Burden: 10,000 hours.

6. Claimant Statement about Loan of Food or Shelter; Statement about Food or Shelter Provided to Another—20 CFR 416.1130-416.1148—0960-0529. Forms SSA-5062 and SSA-L5063 are used to obtain statements about food and/or shelter provided to an SSI claimant or recipient. SSA uses this information to determine whether food and/or shelter are bona fide loans or should be counted as income for SSI purposes. This determination can affect eligibility for SSI and the amount of SSI benefits payable. The respondents are claimants/recipients for SSI benefits and individuals that provide loans of food and/or shelter to SSI claimants/recipients.

Type of Request: Revision of an OMB-approved information collection.

Estimated Annual Burden: 21,846 hours.

Collections | Number of respondents | Frequency of response | Average burden per response (minutes) | Estimated annual burden (hours)
SSA-5062 | 65,540 | 1 | 10 | 10,923
SSA-L5063 | 65,540 | 1 | 10 | 10,923
Totals | 131,080 |  |  | 21,846

7. Internet Direct Deposit Application—31 CFR 210—0960-0634. SSA uses Direct Deposit/Electronic Funds Transfer (DD/EFT) enrollment information received from beneficiaries to facilitate DD/EFT of their Social Security benefits with a financial institution. Respondents are Social Security beneficiaries who use the Internet to enroll in DD/EFT.

Type of Request: Extension of an OMB-approved information collection.

Number of Respondents: 80,000.

Frequency of Response: 1.

Average Burden Per Response: 10 minutes.

Estimated Annual Burden: 13,333 hours.

8. Farm Self-Employment Questionnaire—20 CFR 404.1095—0960-0061. Section 211(a) of the Social Security Act requires the existence of a trade or business as a prerequisite for determining whether an individual or partnership may have “net earnings from self-employment.” Form SSA-7156 elicits the information necessary to determine the existence of an agricultural trade or business and subsequent covered earnings for Social Security entitlement purposes. The respondents are applicants for Social Security benefits, whose entitlement depends on whether the worker has covered earnings from self-employment as a farmer.

Type of Request: Extension of an OMB-approved information collection.

Number of Respondents: 47,500.

Frequency of Response: 1.

Average Burden Per Response: 10 minutes.

Estimated Annual Burden: 7,917 hours.

Dated: March 19, 2007.
Elizabeth A. Davidson,
Reports Clearance Officer, Social Security Administration.

[FR Doc. E7-5281 Filed 3-22-07; 8:45 am]

BILLING CODE 4191-02-P